DEPARTMENT OF HEALTH AND HUMAN SERVICES

Centers for Disease Control and Prevention

[30Day-20-19BDE]

Agency Forms Undergoing Paperwork Reduction Act Review

In accordance with the Paperwork Reduction Act of 1995, the Centers for Disease Control and Prevention (CDC) has submitted the information collection request titled “The Maternal Mortality Review Information Application (MMRIA)” to the Office of Management and Budget (OMB) for review and approval. CDC previously published a “Proposed Data Collection Submitted for Public Comment and Recommendations” notice on June 20, 2019 to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

The Maternal Mortality Review Information Application (MMRIA)—New—National Center for Chronic Disease Prevention and Health Promotion (NCCDPHP), Centers for Disease Control and Prevention (CDC).

Background and Brief Description

The Centers for Disease Control and Prevention (CDC) seeks OMB approval to collect information through the Maternal Mortality Review Information Application (MMRIA) for three years. MMRIA is a standardized data collection system that allows Maternal Mortality Review Committees (MMRCs) across the country to abstract relevant data (clinical and non-clinical) from a variety of sources, document committee decisions, and analyze data in order to better understand the contributing factors and preventability of maternal deaths and thus to develop recommendations for prevention.

About 700 women die each year in the United States as a result of pregnancy or delivery complications, a chain of events initiated by pregnancy, or the aggravation of an unrelated condition by the physiologic effects of pregnancy. Furthermore, considerable racial disparities exist, with black women almost four times more likely to die from pregnancy-related complications than white women. Findings from MMRCs indicate that more than half of maternal deaths are preventable.

Maternal Mortality Review is a process by which a multidisciplinary committee at the jurisdiction level identifies and reviews cases of maternal death within one year of end of pregnancy. Members of MMRCs typically represent public health, obstetrics and gynecology, maternal-fetal medicine, nursing, midwifery, forensic pathology, mental and behavioral health, and other relevant stakeholders. Through a partnership among the MMRC, state vital records office, and epidemiologists, deaths among women of reproductive age are examined to determine if they occurred during pregnancy or within one year of the end of pregnancy (i.e., pregnancy-associated deaths). Through this process, potential cases of pregnancy-related deaths (i.e., maternal death from any cause related to or aggravated by pregnancy or its management) are then identified. Review committees access multiple sources of clinical and non-clinical information to understand the circumstances surrounding a maternal death in order to develop recommendations for action to prevent similar deaths in the future.

MMRIA is a standardized data collection system designed to collect timely, accurate, and standardized information about deaths to women during pregnancy and within one year of end of pregnancy, including opportunities for prevention, within and across jurisdictions. Data will be abstracted and entered into MMRIA from various sources, including death certificates, autopsy reports, birth certificates, prenatal care records, emergency room visit records, hospitalization records, records from other medical office visits, medical transport records, social and environmental profiles, mental health profiles, and informant interviews. Case narratives for committee reviews are auto-populated from the abstracted data entered into MMRIA to facilitate committee review, and committee decisions will also be entered into MMRIA.

The data collected in MMRIA will be used to facilitate an understanding of the drives of maternal mortality and complications of pregnancy and associated disparities; determine what interventions at patient, provider, facility, system, and community levels will have the most impact; and implement data driven recommendations.

The burden estimates presented here are applicable to the estimated 25 awardees of the cooperative agreement Preventing Maternal Deaths: Supporting Maternal Mortality Review Committees (CDC-RFA-DP19-1908); these awardees are required to compile a defined set of information about maternal deaths into MMRIA. It is estimated that information will be collected for a total of 740 pregnancy-associated deaths on average, annually, among the 25 awardees. Burden is estimated based on each awardee's total staff time to enter the abstracted data into MMRIA and enter the committee decision. The annual burden is estimated to be 11,550 hours.

Estimated Annualized Burden Hours
Types of respondents | Form name | Number of respondents | Number of responses per respondent | Average hours per response (in hours)
Awardees | Data abstraction | 25 | 30 | 15
| Committee decision | 25 | 30 | 24/60

Jeffery M. Zirger,
Lead, Information Collection Review Office, Office of Scientific Integrity, Office of Science, Centers for Disease Control and Prevention.

[FR Doc. 2019-27551 Filed 12-20-19; 8:45 am]

BILLING CODE 4163-18-P